DEPARTMENT OF THE INTERIOR

Bureau of Land Management

DEPARTMENT OF AGRICULTURE

U.S. Forest Service

[WO-300-9131-PP]

Notice of Availability of the Draft Programmatic Environmental Impact Statement for Leasing of Geothermal Resources in 11 Western States and Alaska and Notice of Public Hearings

AGENCIES: Bureau of Land Management, Interior; and U.S. Forest Service, Agriculture.

ACTION: Notice of Availability (NOA) of the Draft Programmatic Environmental Impact Statement for Leasing of Geothermal Resources in 11 Western States and Alaska and Notice of Public Hearings.

SUMMARY: In accordance with Section 202 of the National Environmental Policy Act of 1969 (NEPA) (42 U.S.C. 4321 et seq.), the Council on Environmental Quality's regulations implementing the NEPA (40 CFR 1500-1508), and applicable agency guidance, a Draft Programmatic Environmental Impact Statement (PEIS) has been prepared on the leasing of geothermal resources in 11 Western States and Alaska. The Department of the Interior, the Bureau of Land Management (BLM) and the Department of Agriculture, the Forest Service (FS) are co-lead agencies for the PEIS, and the Department of Energy (DOE) is a cooperating Federal agency.

In accordance with the Energy Policy Act of 2005 (Pub. L. 109-58, August 8, 2005), the agencies' goal is to make geothermal leasing decisions on pending lease applications submitted prior to January 1, 2005, and to facilitate geothermal leasing decisions on other existing and future lease applications and nominations for geothermal leasing on Federal lands. The planning area encompasses about 530 million acres of land with the potential for geothermal development in Alaska, Arizona, California, Colorado, Idaho, Montana, New Mexico, Nevada, Oregon, Utah, Washington, and Wyoming.

DATES: To ensure comments will be considered, the BLM must receive written comments on the Draft PEIS within 90 days following the date the Environmental Protection Agency publishes the Notice of Availability in the Federal Register. Public hearings will be held in 13 cities during June and July 2008. See the Supplementary Information section for meeting dates and locations.

ADDRESSES: You may submit comments by any of the following methods:

• E-mail: geothermal_EIS@blm.gov.

• Fax: 1-866-625-0707.

• US Mail: Geothermal Programmatic EIS, c/o EMPSi, 182 Howard Street, Suite 110, San Francisco, California 94105.

FOR FURTHER INFORMATION CONTACT: For further information, including information on how to comment, contact Jack G. Peterson, Bureau of Land Management at (208) 373-4048, Jack_G_Peterson@blm.gov or Tracy Parker, Forest Service at (703) 605-4796, tparker03@fs.fed.us, or visit the PEIS Web site at http://www.blm.gov/Geothermal_EIS.

SUPPLEMENTARY INFORMATION: A copy of the Draft PEIS is available for review via the Internet from a link at http://www.blm.gov/Geothermal_EIS. Hardcopies are available for review at the BLM State and Field Offices. Electronic (on CD-ROM) and paper copies may also be obtained by contacting Jack Peterson at the aforementioned address and phone number.

The PEIS consists of three volumes: Volume I contains the PEIS and associated programmatic analyses; Volume II provides the additional site-specific environmental analysis for the pending lease applications; and Volume III contains the appendices.

The public is encouraged to provide comments on the Draft PEIS. In addition to the written comment period, the BLM and the FS will host 13 public meetings to collect additional comments. The public meeting dates and addresses are as follows:

1. June 16, 2008, 5:30 to 7:30 p.m., Denver, Colorado; PPA Event Center, 2105 Decatur Street.

2. June 17, 2008, 5:30 to 7:30 p.m., Cheyenne, Wyoming; Laramie County Main Library, Willow Room, 200 Pioneer Avenue.

3. June 18, 2008, 5:30 to 7:30 p.m., Helena, Montana; Lewis and Clark Main Library, 120 S. Last Chance Gulch.

4. June 19, 2008, 5:30 to 7:30 p.m., Boise, Idaho; Boise Public Library, 715 South Capitol Blvd.

5. June 23, 2008, 5:30 to 7:30 p.m., Seattle, Washington; Seattle Public Library, University Branch, 5009 Roosevelt Way, NE.

6. June 24, 2008, 5:30 to 7:30 p.m., Portland, Oregon; Multnomah County Library, Hillsdale Branch, 1525 SW Sunset Blvd.

7. June 25, 2008, 5:30 to 7:30 p.m., Davis, California; University of California Davis Walter A. Buehler Alumni and Visitors Center, Mrak Hall Road.

8. July 8, 2008, 5:30 to 7:30 p.m., Anchorage, Alaska; Alaska Energy Authority, 813 W. Northern Lights Blvd.

9. July 9, 2008, 5:30 to 7:30 p.m., Fairbanks, Alaska; Fairbanks North Star Borough Library, 1215 Cowles Street.

10. July 14, 2008, 5:30 to 7:30 p.m., Reno, Nevada; Washoe County Library—Spanish Springs Branch, 7100 Pyramid Highway.

11. July 15, 2008, 5:30 to 7:30 p.m., Salt Lake City, Utah; Main Library, 210 East 400 South.

12. July 16, 2008, 5:30 to 7:30 p.m., Tucson, Arizona; Pima County Public Library, Dusenberry River Branch, 5605 E. River Road.

13. July 17, 2008, 5:30 to 7:30 p.m., Albuquerque, New Mexico; University of New Mexico, Conference Center, Room G, 1634 University NE.

Any changes to these dates or locations, and any other public involvement activities, will be announced at least 10 days in advance through local media and on the project Web site: http://www.blm.gov/Geothermal_EIS.

The Notice of Intent to prepare the PEIS was published on June 13, 2007, in the Federal Register (72 FR 32679). In accordance with the Energy Policy Act of 2005, the BLM and the FS propose to facilitate geothermal leasing on lands administered by the BLM (termed “public lands”) and by the FS (National Forest System (NFS) lands) that have geothermal potential in the 11 western states and Alaska. Under the proposal, the BLM and the FS would do the following: (1) Identify public and NFS lands with geothermal potential for which geothermal leases may be issued, statutorily open lands, and for which issuance of geothermal leases is barred by operation of law, legally closed lands; (2) identify public lands that are administratively closed or open, and under what conditions; (3) develop a comprehensive list of stipulations, best management practices, and procedures to serve as consistent guidance for future geothermal leasing and development on public and NFS lands; (4) amend the BLM Resource Management Plans (RMPs) to adopt the resource allocations and procedures; and (5) issue or deny geothermal lease applications pending as of January 1, 2005.

The need for the action is to (1) Issue decisions on pending lease applications in accordance with the Energy Policy Act of 2005; (2) address other provisions of the Energy Policy Act of 2005, respond to other policy directives calling for clean and renewable energy (such as state renewable portfolio standards), and meet the increasing energy demands of the nation; and (3) facilitate geothermal leasing decisions on other existing and future lease applications and nominations on the Federal mineral estate. The purpose of the action is to (1) Complete the processing of active pending geothermal lease applications; (2) amend BLM land use plans to allocate lands with geothermal potential as being closed or open with minor to major constraints to leasing; and (3) provide suitable information to the FS to facilitate its subsequent consent decisions for BLM leasing on NFS lands.

Over 530 million acres of the western United States and Alaska have been identified as potentially containing geothermal resources suitable for commercial electrical generation and other direct uses, such as heating. Much of the resource base is held in the Federal mineral estate, for which the BLM has the delegated authority for processing and issuing geothermal leases. Some units or portions of the areas identified as having geothermal resource potential will not be developed because they are unavailable for leasing, either by statute, regulation or other authority. These designations are described at 43 CFR 3201.11, and include, but are not limited to: lands where the Secretary has determined that issuing a lease would cause unnecessary or undue degradation to public lands and resources; lands contained within a unit of the National Park System, for example, the geothermal features in and around Yellowstone National Park; wilderness areas; wilderness study areas; fish hatcheries; wildlife management areas; Indian trust lands; and other areas referred to in the above regulation.

Under the Proposed Action, the BLM and the FS would also apply discretionary closures to (1) Areas of Critical Environmental Concern (ACEC) where the BLM determines that geothermal leasing and development would be incompatible with the purposes for which the ACEC was designated, or those whose management plans expressly preclude new leasing; (2) National Conservation Areas, except the California Desert Conservation Area; (3) other lands in the BLM's National Landscape Conservation System, such as historic and scenic trails; and (4) military reservations where geothermal development would conflict with the military mission.

Approximately 142 million acres of public (BLM) lands and 106 million acres of NFS lands have geothermal potential. Based on the proposed closures, the BLM and the FS are proposing to allocate approximately 117 million acres of public lands and 75 million acres of NFS lands to geothermal leasing subject to existing laws, regulations, formal orders, stipulations attached to the lease form, and terms and conditions of the standard lease form. To protect special resource values, the BLM and the FS have developed a comprehensive list of stipulations, conditions of approval, and best management practices (BMPs).

In addition, a reasonably foreseeable development scenario (RFD) was prepared to predict future geothermal development trends. The RFD estimates a potential for 5,500 megawatts (MW) of new electrical generation capacity by 2015 through 110 new geothermal power plants, and an additional 6,600 MW from an additional 132 power plants by 2025. The RFD also recognizes the great potential for direct uses, including up to 270 communities being able to develop geothermal resources for heating buildings to offset the use of conventional energy sources.

The BLM and the FS administrative units that have geothermal resources within their boundaries and are included in the planning area for the PEIS are provided in Table 1. In order for geothermal resource leasing and development to take place on the public lands that the BLM manages, such activities must be provided for in the land use plan for the affected administrative unit. Therefore, land use plans for the affected BLM administrative units may be amended by this PEIS to address geothermal leasing. Adoption of the appropriate allocations, development scenarios, stipulations, and BMPs for specific administrative units will be done through the plan maintenance process; thereby allowing future leasing decisions to be made based on the amended plans. The FS will evaluate their land use plans and amend them as needed through a separate environmental review process.

Table 1.—BLM and Forest Service Administrative Units Within the Planning Area
State | BLM Field Office (or District) | National Forest
Alaska | Anchorage, Central Yukon, Eastern Interior, Glennallen | Tongass National Forest.
Arizona | Arizona Strip, Hassayampa, Kingman, Lake Havasu, Lower Sonoran, Safford, Tucson, Yuma | Apache-Sitgreaves National Forests, Coronado National Forest, Tonto National Forest.
California | Alturas, Arcata, Bakersfield, Barstow, Bishop, Eagle Lake, El Centro, Folsom, Hollister, Needles, Palm Springs, Redding, Ridgecrest, Surprise, Ukiah | Angeles National Forest, Cleveland National Forest, Eldorado National Forest, Humboldt-Toiyabe National Forest, Inyo National Forest, Klamath National Forest, Lassen National Forest, Los Padres National Forest, Mendocino National Forest, Modoc National Forest, Plumas National Forest, San Bernardino National Forest, Sequoia National Forest, Shasta Trinity National Forest, Sierra National Forest, Tahoe National Forest.
Colorado | Columbine, Del Norte, Dolores, Glenwood Springs, Grand Junction, Gunnison, Kremmling, La Jara, Little Snake, Pagosa Springs, Royal Gorge, Saguache, Uncompahgre, White River | Arapaho and Roosevelt National Forests, Grand Mesa, Uncompahgre and Gunnison National Forests, Medicine Bow-Routt National Forest, Pike-San Isabel National Forest, Rio Grande National Forest, San Juan National Forest, White River National Forest.
Idaho | Bruneau, Burley, Challis, Cottonwood, Four Rivers, Jarbridge, Owyhee, Pocatello, Salmon, Shoshone, Upper Snake | Boise National Forest, Caribou-Targhee National Forest, Clearwater National Forest, Nez Perce National Forest, Payette National Forest, Salmon-Challis National Forest, Sawtooth National Forest.
Montana | Billings, Butte, Dillon, Lewistown, Malta, Miles City, Missoula | Beaverhead-Deerlodge National Forest, Bitterroot National Forest, Clearwater National Forest, Custer National Forest, Dixie National Forest, Gallatin National Forest, Helena National Forest, Lewis and Clark National Forest, Lolo National Forest.
New Mexico | Carlsbad, Farmington, N/A, Rio Puerco, Roswell, Soccoro, Taos | Carson National Forest, Cibola National Forest, Gila National Forest, Lincoln National Forest, Santa Fe National Forest.
Nevada | Battle Mountain, Carson City, Elko, Ely, Las Vegas, Winnemucca | Humboldt-Toiyabe National Forest.
Oregon | Burns, Eugene, Lakeview, Medford, Prineville, Roseburg, Salem, Vale | Deschutes National Forest, Fremont-Winema National Forests, Malheur National Forest, Mt. Hood National Forest, Ochoco National Forest, Rogue River-Siskiyou National Forests, Umatilla National Forest, Umpqua National Forest, Wallowa-Whitman National Forest, Willamette National Forest.
Utah | Cedar City, Fillmore, Kanab, Richfield, Salt Lake, St. George, Vernal | Dixie National Forest, Fishlake National Forest, Uinta National Forest, Wasatch-Cache National Forest.
Washington | Spokane | Gifford Pinchot National Forest, Mt Baker-Snoqualmie National Forest, Okanogan-Wenatchee National Forests, Umatilla National Forest.
Wyoming | Buffalo, Casper, Cody, Kemmerer, Lander, Newcastle, Pinedale, Rawlins, Rock Springs, Worland | Ashley National Forest, Bridger-Teton National Forest, Caribou-Targhee National Forest, Medicine Bow-Routt National Forest, Shoshone National Forest, Wasatch-Cache National Forest.

In addition to the Proposed Action, the PEIS evaluates two other alternatives: The No Action Alternative and an alternative termed Leasing Near Transmission Lines. The No Action Alternative would allow the processing of pending geothermal lease applications; however, no land use plans would be amended. Therefore, lease applications would be evaluated on a case-by-case basis and would require additional environmental review and possible land use plan amendments.

The Leasing Near Transmission Lines Alternative was developed based on input from scoping. Under this alternative the scope of lands considered for leasing for commercial electrical generation would be limited to those lands that are near transmission lines.

This alternative also considers a larger buffer around Yellowstone National Park. While this alternative minimizes the potential footprint of tie-in transmission lines from power plants to distribution lines, it would limit the potential for geothermal energy generation.

In addition to the programmatic analysis, the PEIS provides site-specific environmental analysis for seven lease applications in Alaska, California, Nevada, Oregon, and Washington that were pending as of January 1, 2005. The alternatives evaluated for this analysis are issuing the lease or denying the lease (no action conditions).

Comments may be submitted in writing on the stated planning criteria using one of the methods listed in the ADDRESSES section. Please note that public comments and information submitted including names, street addresses, and e-mail addresses of respondents will be available for public review and disclosure at the above address during regular business hours (8 a.m. to 4 p.m.), Monday through Friday, except holidays. Comments will be available for review at the following Web site: http://www.blm.gov/Geothermal_EIS.

Before including your address, phone number, e-mail address, or other personal identifying information in your comment, you should be aware that your entire comment—including your personal identifying information—may be made publicly available at any time. While you may request in your comment that we withhold your personal identifying information from public review, we cannot guarantee that we will be able to do so.

Jeff O. Holdren,
Acting Assistant Director, Minerals and Realty Management.
Gloria Manning,
Associate Deputy Chief for National Forest System, U.S. Forest Service.

[FR Doc. E8-13365 Filed 6-12-08; 8:45 am]

BILLING CODE 4310-10-P